DEPARTMENT OF LABOR

Employment and Training Administration

[TA-W-58,890]

Narragansett Jewelry, Inc.; DBA C & J Jewelry Co., Inc. and Including Narragansett Creations; DBA Crest Craft, Inc.; Providence, RI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 23, 2006, applicable to workers of C & J Jewelry Co., Inc., Providence, Rhode Island. The notice was published in the Federal Register on April 12, 2006 (71 FR 18772).

At the request of the State agency, the Department reviewed the certification for workers of the subject firm. The workers are engaged in the production of sterling silver jewelry.

New information provided by the State shows that the correct name of the subject firm is Narragansett Jewelry, Inc., DBA C & J Jewelry Co., Inc., and including Narragansett Creations, DBA Crest Craft, Inc. Information also shows that workers separated from employment at the subject firm had their wages reported under separate unemployment insurance (UI) tax accounts for Narragansett Jewelry, DBA C and J Jewelry, and including Narragansett Creations, DBA Crest Craft, Inc.

Accordingly, the Department is amending the certification to properly reflect this matter.

The intent of the Department's certification is to include all workers of Narragansett Jewelry, DBA C & J Jewelry Co., Inc., and including Narragansett Creations, DBA Crest Craft, Inc. who were adversely affected by increased imports.

The amended notice applicable to TA-W-58,890 is hereby issued as follows:

All workers of Narragansett Jewelry, DBA C & J Jewelry Co., Inc., and including Narragansett Creations, DBA Crest Craft, Inc., Providence, Rhode Island, who became totally or partially separated from employment on or after February 22, 2005, through March 23, 2008, are eligible to apply for adjustment assistance under Section 223 of the Trade Act of 1974, and are also eligible to apply for alternative trade adjustment assistance under Section 246 of the Trade Act of 1974.

Signed at Washington, DC, this 8th day of June 2006.
Richard Church,
Certifying Officer, Division of Trade Adjustment Assistance.

[FR Doc. E6-9995 Filed 6-23-06; 8:45 am]

BILLING CODE 4510-30-P